DEPARTMENT OF AGRICULTURE

Rural Utilities Service

Southern Intertie Project Draft Environmental Impact Statement

AGENCY: Rural Utilities Service, USDA.

ACTION: Notice of Extension for the Southern Intertie Project Draft Environmental Impact Statement.

SUMMARY: The Rural Utilities Service (RUS), as lead Federal agency, is preparing an environmental impact statement (EIS) for the Southern Intertie Project, a proposal by six electric utilities that are collectively known as the Intertie Participants Group (IPG). The project consists of the construction and operation of a 230 kV transmission line and associated facilities to be located between Anchorage and a location on the Kenai Peninsula in Alaska. The U.S. Fish and Wildlife Service (FWS) and Army Corps of Engineers-Alaska District (ACE) are both cooperating agencies. A notice of intent to prepare an EIS was announced in the Federal Register on Wednesday, October 9, 1996, at 61 FR 52908.

The route proposed by the IPG would cross portions of the Kenai National Wildlife Refuge. On August 5, 1999, the IPG submitted an application for a right-of-way pursuant to Title XI of the Alaska National Interest Lands Conservation Act of 1980 (Pub. L. 96-487, U.S.C. 668dd) and its implementing regulations (43 CFR part 36). The application was accepted by the RUS, FWS, and ACE.

Regulations at 43 CFR 36.6(a)(2) require the lead agency to publish notification of an extension with reasons for the extension of a nine-month period to complete the draft EIS. Due to the magnitude and complexity of the proposed project and the number of resources that will potentially be impacted, the evaluation of the data compiled by the applicant's consultants is taking longer than expected. Because of the additional time needed to evaluate the data, RUS is providing notice that an additional four months is required to complete the draft EIS.

DATES: The draft EIS is expected to be available for public review in September of 2000. Public hearings on the draft EIS will be scheduled in Soldotna and Anchorage, Alaska, and Washington, DC in September/October of 2000.

FOR FURTHER INFORMATION CONTACT: Lawrence R. Wolfe, Senior Environmental Protection Specialist, RUS, Engineering and Environmental Staff, Stop 1571, 1400 Independence Ave., SW, Washington, DC 20250-1571, telephone (202) 720-5093 or e-mail: lwolfe@rus.usda.gov.

Dated: April 25, 2000.
Mark S. Plank,
Acting Director, Engineering and Environmental Staff.

[FR Doc. 00-10649 Filed 4-27-00; 8:45 am]

BILLING CODE 3410-15-P